DEPARTMENT OF ENERGY

Federal Energy Regulatory Commission

[Docket Nos. RP00-327-000 and RP00-326-000]

Columbia Gas Transmission Corporation, Columbia Gulf Transmission Company; Notice of Technical Conferences

November 22, 2000.

On June 15, 2000, Columbia Gas Transmission Corporation (Columbia Gas) and Columbia Gulf Transmission Company (Columbia Gulf) submitted filings to comply with Order No. 637. Several parties have protested various aspects of Columbia Gas' filing and Columbia Gulf's filing.

Take notice that a technical conference to discuss the various issues raised by Columbia Gulf's filing will commence on Wednesday, December 13, 2000, at 10:00 am.

Also take notice that a technical conference to discuss the various issues raised by Columbia Gas's filing will commence on Thursday, December 14, 2000, at 9:00 am.

The technical conferences will be held in a room to be designated at the offices of the Federal Energy Regulatory Commission, 888 First Street, NE., Washington, DC 20426. Parties protesting aspects of Columbia Gas' filing and Columbia Gulf's filing should be prepared to discuss alternatives.

All interested persons and Staff are permitted to attend.

David P. Boergers,
Secretary.

[FR Doc. 00-30354 Filed 11-28-00; 8:45 am]

BILLING CODE 6717-01-M